FEDERAL COMMUNICATIONS COMMISSION

Notice of Public Information Collection(s) Being Reviewed by the Federal Communications Commission for Extension Under Delegated Authority, Comments Requested

December 5, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 12, 2002. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0567.

Title: Section 76.962 Implementation and certification of compliance.

Form Number: N/A.

Type of Review: Delegated.

Respondents: Business or other for-profit entities, State, local or Tribal Government.

Number of Respondents: 500.

Estimated Time Per Response: .5 hours (30 minutes).

Total Annual Burden to Respondents: 250.

Total Annual Costs: $0.00.

Needs and Uses: Section 76.962 requires any cable operator that has been deemed subject to remedial requirements to certify to the Commission its compliance with the Commission order requiring prospective rate reductions, refunds or other relief to subscribers. The certification must be filed with the Commission within 90 days from the date the Commission released the order mandating a remedy. These certifications are used by the Commission to monitor a cable operator's compliance with Commission rate orders.

OMB Control Number: 3060-0668.

Title: Section 76.936 Written Decisions.

Form Number: N/A.

Type of Review: Delegated.

Respondents: State or Local, or Tribal government.

Number of Respondents: 1,200.

Estimated Time Per Response: 1 hour.

Total Annual Burden to Respondents: 1,200 hours.

Total Annual Costs: $0.

Needs and Uses: Section 76.936 states that a franchising authority must issue a written decision in a rate-making proceeding whenever it disapproves an initial rate for the basic service tier or associated equipment in whole or in part, disapproves a request for a rate increase in whole or in part, or approves a request for an increase whole or in part over the objection of interested parties. Franchising authorities are required to issue a written decision in rate-making proceedings pursuant to section 76.936 so that cable operators and the public are made aware of the proceeding.

OMB Control Number: 3060-0673.

Title: Section 76.956 Cable Operator Response.

Form Number: N/A.

Type of Review: Extension of a currently approved collection.

Respondents: Business or other for-profit entities.

Number of Respondents: 50.

Estimated Time Per Response: 4 hours.

Total Annual Burden to Respondents: 200 hours.

Total Annual Costs: $0.

Needs and Uses: Section 76.956 states that unless otherwise directed by the local franchising authority, a cable operator must file with the local franchising authority a response to a cable service complaint. In addition to responding to the merits of a complaint, the cable operator also may move for dismissal of the complaint for failure to meet the minimum showing requirement. The local franchising authority and the Commission use this information to ensure a process for cable operators to file a motion to dismiss a rate complaint filed against them if they feel that the complaint fails to meet the minimum showing.

Federal Communications Commission.
Magalie Roman Salas,
Secretary.

[FR Doc. 01-30868 Filed 12-13-01; 8:45 am]

BILLING CODE 6712-01-P